ENVIRONMENTAL PROTECTION AGENCY

[EPA-HQ-AO-2015-0553; FRL-9932-16-OA]

Proposed Information Collection Request; Comment Request; CEQ-EPA Presidential Innovation Award for Environmental Educators Application

AGENCY: Environmental Protection Agency (EPA).

ACTION: Notice.

SUMMARY: The Environmental Protection Agency (EPA) is planning to submit an information collection request (ICR), “CEQ-EPA Presidential Innovation Award for Environmental Educators Application” to the Office of Management and Budget (OMB) for review and approval in accordance with the Paperwork Reduction Act (44 U.S.C. 3501 et seq.). Before doing so, EPA is soliciting public comments on specific aspects of the proposed information collection as described below. This is request for approval of a new collection. An Agency may not conduct or sponsor and a person is not required to respond to a collection of information unless it displays a currently valid OMB control number.

DATES: Comments must be submitted on or before October 13, 2015.

ADDRESSES: Submit your comments, referencing Docket ID No. EPA-HQ-AO-2015-0553, online using www.regulations.gov (our preferred method), by email to oei.docket@epa.gov, or by mail to: EPA Docket Center, Environmental Protection Agency, Mail Code 28221T, 1200 Pennsylvania Ave. NW., Washington, DC 20460.

EPA's policy is that all comments received will be included in the public docket without change including any personal information provided, unless the comment includes profanity, threats, information claimed to be Confidential Business Information (CBI) or other information whose disclosure is restricted by statute.

FOR FURTHER INFORMATION CONTACT: Carly Carroll, AO Office of Environmental Education, MC-1704-A, Environmental Protection Agency, 1200 Pennsylvania Ave. NW., Washington, DC 20460; telephone number: 202-564-2769; fax number: 202-564-2754; email address: carroll.carly@epa.gov.

SUPPLEMENTARY INFORMATION: Supporting documents which explain in detail the information that the EPA will be collecting are available in the public docket for this ICR. The docket can be viewed online at www.regulations.gov or in person at the EPA Docket Center, WJC West, Room 3334, 1301 Constitution Ave. NW., Washington, DC. The telephone number for the Docket Center is 202-566-1744. For additional information about EPA's public docket, visit http://www.epa.gov/dockets.

Pursuant to section 3506(c)(2)(A) of the PRA, EPA is soliciting comments and information to enable it to: (i) Evaluate whether the proposed collection of information is necessary for the proper performance of the functions of the Agency, including whether the information will have practical utility; (ii) evaluate the accuracy of the Agency's estimate of the burden of the proposed collection of information, including the validity of the methodology and assumptions used; (iii) enhance the quality, utility, and clarity of the information to be collected; and (iv) minimize the burden of the collection of information on those who are to respond, including through the use of appropriate automated electronic, mechanical, or other technological collection techniques or other forms of information technology, e.g., permitting electronic submission of responses. EPA will consider the comments received and amend the ICR as appropriate. The final ICR package will then be submitted to OMB for review and approval. At that time, EPA will issue another Federal Register notice to announce the submission of the ICR to OMB and the opportunity to submit additional comments to OMB.

Abstract: The purpose of this information collection request is to collect information from applicants in order to select recipients for the Presidential Innovation Award for Environmental Educators program. The U.S. Environmental Protection Agency (EPA or the Agency), in conjunction with the White House Council on Environmental Quality (CEQ), established the award program to meet the requirements of Section 8(e) of the National Environmental Education Act (20 U.S.C. 5507(e)).

Form Numbers: None.

Respondents/affected entities: K-12 teachers who teach on a full-time basis in a public school that is operated by a local education agency, including schools funded by the Bureau of Indian Affairs. For this program, a local education agency is one as defined by section 198 of the Elementary and Secondary Education Act of 1965 (now codified at 20 U.S.C. 7801(26)).

Respondent's obligation to respond: Required to obtain information from the applicants for Presidential Innovation Award for Environmental Educators and assess certain aspects of the PIAEE program as established under Section 8(e) of the National Environmental Education Act (20 U.S.C. 5507(e)).

Estimated number of respondents: 75 (total).

Frequency of response: Annually.

Total estimated burden: 10 hours (per year). Burden is defined at 5 CFR 1320.03(b).

Total estimated cost: $28,500 (per year) for 75 applicants, includes $17,100 annualized capital or operation & maintenance costs.

Changes in Estimates: We expect that after adjusting the burden numbers that the burden numbers will substantially stay the same. Program requirements are expected to stay the same and the estimates currently take into account the use of technology to complete the application.

Dated: July 24, 2015.
Brian Bond,
Associate Administrator, Office of Public Engagement and Environmental Education.

[FR Doc. 2015-19737 Filed 8-10-15; 8:45 am]

BILLING CODE 6560-50-P